DEPARTMENT OF TRANSPORTATION

Federal Aviation Administration

14 CFR Part 39

[Docket No. FAA-2009-0328; Directorate Identifier 2008-NE-44-AD; Amendment 39-16103; AD 2009-24-11]

RIN 2120-AA64

Airworthiness Directives; General Electric Company (GE) CF34-1A, CF34-3A, and CF34-3B Series Turbofan Engines; Delay of Effective Date

AGENCY: Federal Aviation Administration (FAA), Department of Transportation (DOT).

ACTION: Final rule; delay of effective date.

SUMMARY: The FAA is delaying the effective date of the final rule airworthiness directive (AD) 2009-24-11, which published in the Federal Register, for an additional 30 days, from January 4, 2010 to February 3, 2010. The FAA is delaying the effective date to allow us a sufficient amount of time to make corrections to the compliance text of the final rule.

DATES: The effective date for the final rule published in the Federal Register on November 30, 2009 (74 FR 62481) is delayed until February 3, 2010.

FOR FURTHER INFORMATION CONTACT: John Frost, Aerospace Engineer, Engine Certification Office, FAA, Engine & Propeller Directorate, 12 New England Executive Park, Burlington, MA 01803; e-mail: john.frost@faa.gov; telephone (781) 238-7756; fax (781) 238-7199.

SUPPLEMENTARY INFORMATION: On November 30, 2009 (74 FR 62481), we published a final rule AD, FR Doc. E9-28236, in the Federal Register. That AD applies to GE CF34-1A, CF34-3A, and CF34-3B series turbofan engines. We are delaying the effective date to allow us a sufficient amount of time to make corrections to the compliance text of the final rule. Since AD 2009-24-11 was issued, we discovered that when we recodified the compliance section as part of our response to a comment received on the proposed AD, we inadvertently left out of the AD certain fan blade effectivity information from paragraphs (f) and (g) and (j). Paragraphs (f) and (g) are missing information on fan blades, P/Ns 6018T30P14 or 4923T56G08, that have any fan blade S/Ns listed in Appendix A of General Electric Aircraft Engines (GEAE) Service Bulletin (SB) No. CF34-AL S/B 72-0245, Revision 01, dated July 30, 2008. Also, paragraph (j) is missing information on fan blades, P/N 6018T30P14 or P/N 4923T56G08, that have any fan blade S/Ns listed in Appendix A of GEAE SB No. CF34-BJ S/B 72-0229, Revision 01, dated July 30, 2008.

Issued in Burlington, Massachusetts, on December 23, 2009.
Francis A. Favara,
Manager, Engine and Propeller Directorate, Aircraft Certification Service.

[FR Doc. E9-30978 Filed 12-30-09; 8:45 am]

BILLING CODE 4910-13-P